ENVIRONMENTAL PROTECTION AGENCY

[FRL-9965-22-OW]

Notice of Open Meeting of the Environmental Financial Advisory Board (EFAB)

AGENCY: Environmental Protection Agency (EPA).

ACTION: Notice of open meeting.

SUMMARY: The EPA's Environmental Financial Advisory Board (EFAB) will hold a public meeting on August 22-23, 2017. EFAB is an EPA advisory committee chartered under the Federal Advisory Committee Act to provide advice and recommendations to EPA on creative approaches to funding environmental programs, projects, and activities.

The purpose of this meeting is to hear from informed speakers on environmental finance issues, proposed legislation, and EPA priorities; to discuss activities, progress, and preliminary recommendations with regard to current EFAB work projects; and to consider requests for assistance from EPA program offices. Environmental finance discussions and presentations are expected on, but not limited to, the following topics: Decentralized wastewater systems; lead risk reduction; public-private partnerships; domestic recycling programs; water infrastructure financing and environmental justice; water quality restoration in the Chesapeake Bay Watershed; Rural Alaska Waste Backhaul Service Program; and drinking water and clean water state revolving fund (SRF) funding to address lead fixture replacement projects. The meeting is open to the public; however, seating is limited. All members of the public who wish to attend the meeting must register, in advance, no later than Monday, August 7, 2017.

DATES: The full board meeting will be held Tuesday, August 22, 2017 from 1:30 p.m.-5:00 p.m., and Wednesday, August 23, 2017 from 9:00 a.m.-5:00 p.m.

ADDRESSES: Marriott Kansas City Overland Park, 10800 Metcalf Avenue, Overland Park, KS 66210.

FOR FURTHER INFORMATION CONTACT: For information on access or services for individuals with disabilities, or to request accommodations for a disability, please contact Sandra Williams at (202) 564-4999 or williams.sandra@epa.gov, at least 10 days prior to the meeting to allow as much time as possible to process your request.

Dated: July 11, 2017.
Sheila Frace,
Acting Director, Office of Wastewater Management, Office of Water.

[FR Doc. 2017-15723 Filed 7-26-17; 8:45 am]

BILLING CODE 6560-50-P